SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before August 9, 2024.

ADDRESSES: Send all comments to, Allison Richards, Director, Shuttered Venue Operators Grant (SVOG) Program Office of Disaster Recovery and Resilience, Small Business Administration.

FOR FURTHER INFORMATION CONTACT: Allison Richards, Director, Shuttered Venue Operators Grant (SVOG), Allison.richards@sba.gov, 202-205-9168. Curtis B. Rich, Agency Clearance Officer, curtis.rich@sba.gov, 202-205-7030.

SUPPLEMENTARY INFORMATION: SBA will collect the information from small businesses and non-profits organizations that are eligible to apply for the Shuttered Venue Operator Grant program as authorized by section 324 of the Economic Aid to Hard-Hit Small Businesses, Nonprofits, and Venues Act (Pub. L. 116-260). SBA will use this information collection to make a threshold eligibility determination for the grant.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Control Number: 3245-0420.

(1) Title: Grant for Shuttered Venue Operators.

Description of Respondents: Small businesses and non-profits organizations.

Form Number: SBA Form 3515.

Total Estimated Annual Responses: 10,000.

Total Estimated Annual Hour Burden: 20,000.

Curtis B. Rich,
Agency Clearance Officer.

[FR Doc. 2024-12661 Filed 6-7-24; 8:45 am]

BILLING CODE 8026-09-P